DEPARTMENT OF AGRICULTURE

Foreign Agricultural Service

Trade Adjustment Assistance for Farmers

AGENCY: Foreign Agricultural Service, USDA.

ACTION: Notice.

The Administrator of the Foreign Agricultural Service (FAS) today accepted and began a review of a petition for trade adjustment assistance filed under the FY 2011 Program by the Southern Shrimp Alliance on behalf of shrimp producers in Alabama, Florida, Georgia, Louisiana, Mississippi, North Carolina, South Carolina, and Texas. The Administrator will determine within 40 days whether or not increasing imports of shrimp contributed importantly to a greater than 15-percent decrease in the production quantity of shrimp compared to the average of the 3 preceding marketing years. If the determination is affirmative, shrimpers who land and market shrimp in Alabama, Florida, Georgia, Louisiana, Mississippi, North Carolina, South Carolina, and Texas will be eligible to apply to the Farm Service Agency for free technical assistance and cash benefits.

FOR FURTHER INFORMATION CONTACT: Trade Adjustment Assistance for Farmers Staff, FAS, USDA, by phone: (202) 720-0638, or (202) 690-0633; or by e-mail: tradeadjustment@fas.usda.gov; or visit the TAA for Farmers' Web site: http://www.fas.usda.gov/itp/taa.

Dated: July 14, 2010.
John D. Brewer,
Administrator, Foreign Agricultural Service.

[FR Doc. 2010-17799 Filed 7-20-10; 8:45 am]

BILLING CODE 3410-10-P